BUREAU OF CONSUMER FINANCIAL PROTECTION

12 CFR Part 1022

[Docket No. CFPB-2022-0023]

RIN 3170-AB12

Prohibition on Inclusion of Adverse Information in Consumer Reporting in Cases of Human Trafficking (Regulation V); Correction

AGENCY: Bureau of Consumer Financial Protection.

ACTION: Final rule; correction.

SUMMARY: On June 24, 2022, the Consumer Financial Protection Bureau (Bureau or CFPB) published the “Prohibition on Inclusion of Adverse Information in Consumer Reporting in Cases of Human Trafficking (Regulation V)” final rule (Human Trafficking Final Rule) in the Federal Register. The SUPPLEMENTARY INFORMATION in the Human Trafficking Final Rule contained a formatting error in footnote 51. This document corrects this error.

DATES: This correction is effective on October 5, 2022.

FOR FURTHER INFORMATION CONTACT: Daniel Tingley, Counsel; Lanique Eubanks or Brandy Hood, Senior Counsels, Office of Regulations, at 202-435-7700. If you require this document in an alternative electronic format, please contact CFPB_Accessibility@cfpb.gov.

SUPPLEMENTARY INFORMATION: On June 24, 2022, the Bureau published in the Federal Register the Human Trafficking Final Rule to address recent legislation that assists consumers who are victims of trafficking by amending Regulation V, which implements the Fair Credit Reporting Act (FCRA).¹ The SUPPLEMENTARY INFORMATION contained a formatting error in footnote 51 in the third column of page 37712 of volume 87 of the Federal Register. The phrase “See note Error! Bookmark not defined. supra;” should read “See note 11, supra,”. This change references a prior footnote in the Human Trafficking Final Rule.

¹ 87 FR 37700 (June 24, 2022).

Correction

Accordingly, the Bureau makes the following correction to FR Doc. 2022-13671 published on June 24, 2022 (87 FR 37700):

1. Revise footnote 51 on page 37712 to read “See note 11, supra, Training & Tech. Assistance Ctr., Off. for Victims of Crime, U.S. Dep't of Just., Human Trafficking Task Force e-Guide, https://www.ovcttac.gov/taskforceguide/eguide/1-understanding-human-trafficking/13-victim-centered-approach (last visited June 20, 2022).”

Dani Zylberberg,
Counsel and Federal Register Liaison, Consumer Financial Protection Bureau.

[FR Doc. 2022-21535 Filed 10-4-22; 8:45 am]

BILLING CODE 4810-AM-P